DEPARTMENT OF THE INTERIOR

National Indian Gaming Commission

25 CFR Chapter III

Regulatory Review Schedule; Cancellation of Consultation Meetings

AGENCY: National Indian Gaming Commission.

ACTION: Notice.

SUMMARY: On November 18, 2010, the National Indian Gaming Commission (NIGC) issued a Notice of Inquiry and Notice of Consultation advising the public that the NIGC was conducting a comprehensive review of its regulations and requesting public comment on the process for conducting the regulatory review. On April 4, 2011, after holding eight consultations and reviewing all comments, NIGC published a Notice of Regulatory Review Schedule setting out a consultation schedule and process for review. The purpose of this document is to cancel four scheduled tribal consultations.

DATES: See SUPPLEMENTARY INFORMATION below for dates and locations of cancelled consultations.

FOR FURTHER INFORMATION CONTACT: Lael Echo-Hawk, National Indian Gaming Commission, 1441 L Street NW., Suite 9100 Washington, DC 20005. Telephone: 202-632-7003; e-mail: reg.review@nigc.gov.

SUPPLEMENTARY INFORMATION: On November 18, 2010, the National Indian Gaming Commission (NIGC) issued a Notice of Inquiry and Notice of Consultation advising the public that it was conducting a review of its regulations promulgated to implement 25 U.S.C. 2701-2721 of the Indian Gaming Regulatory Act (IGRA) and requesting public comment on the process for conducting the regulatory review. On April 4, 2011, after holding eight consultations and reviewing all comments, NIGC published a Notice of Regulatory Review Schedule in the Federal Register setting out consultation schedules and review processes. (76 FR 18457, April 4, 2011).

The Commission's regulatory review process establishes a tribal consultation schedule with a description of the regulation groups to be covered at each consultation. This document advises the public that the following tribal consultations have been cancelled.

Consultation date | Event | Location | Regulation group(s)
August 25-26, 2011 | NIGC Consultation—Southwest | Wild Horse Resort Casino, Scottsdale, AZ | 1, 2, 3, 4, 5
September 19-20, 2011 | NIGC Regional Training | Sky Ute Casino Resort Ignacio, CO | 3, 4, 5
September 27-28, 2011 | NIGC Consultation—Northeast | Turning Stone Casino, NY | 3, 5
November 7-12, 2011 | USET Annual Meeting | Mississippi Choctaw, MS | 3, 4, 5

For additional information on consultation locations and times, please refer to the Web site of the National Indian Gaming Commission, http://www.nigc.gov.

Dated: August 1, 2011, Washington, DC.
Tracie L. Stevens,
Chairwoman.
Steffani A. Cochran,
Vice-Chairwoman.
Daniel J. Little,
Associate Commissioner.

[FR Doc. 2011-19808 Filed 8-3-11; 8:45 am]

BILLING CODE P